FEDERAL COMMUNICATIONS COMMISSION

47 CFR Part 64

[CG Docket Nos. 03-123, 10-51, 13-24 and WC Docket No. 12-375; FCC 22-51; FCC 22-76; FR ID 201005]

VRS and IP CTS—Commencement of Pending User Registration; Rates for Interstate Inmate Calling Services; Correction

AGENCY: Federal Communications Commission.

ACTION: Technical amendments.

SUMMARY: The Federal Communications Commission (Commission) corrects the effective date for rules published in a document in the Federal Register on December 21, 2023. The document incorrectly announced an effective date for certain amendments to the Commission's regulations.

DATES: The amendments to § 64.6060(a)(5) through (7) in amendatory instruction 2 are effective February 8, 2024. The amendments to § 64.6060(a)(5) through (7) in amendatory instruction 3 are delayed indefinitely. The Commission will publish a document in the Federal Register announcing the effective date.

FOR FURTHER INFORMATION CONTACT: Michael Scott, Disability Rights Office, Consumer and Governmental Affairs Bureau, at (202) 418-1264, or email: Michael.Scott@fcc.gov.

SUPPLEMENTARY INFORMATION: This document corrects the effective date for amendments to § 64.6060(a)(5) through (7), published at 87 FR 75496, December 9, 2022, which triggered the codification of those amendments on December 21, 2023. The document corrects § 64.6060(a)(5) through (7) (amendatory instruction 2) to revert the rule to the prior text. The document publishes amendments to § 64.6060(a)(5) through (7) (amendatory instruction 3) that are delayed pending Office of Management and Budget (OMB) approval of the information requirements contained in the Commission's Report and Order, FCC 22-76, published at 87 FR 75496, December 9, 2022. The Commission will publish a document in the Federal Register announcing the effective date for the delayed amendments.

List of Subjects in 47 CFR Part 64

Individuals with disabilities, Telecommunications, Telephone.

Federal Communications Commission.
Marlene Dortch,
Secretary, Office of the Secretary.

Accordingly, 47 CFR part 64 is amended as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 255, 262, 276, 301, 303, 316, 345, 403(b)(2)(B), (c), 616, 620, 716, 1401-1473, unless otherwise noted; Div. P, sec. 503, Pub. L. 115-141, 132 Stat. 348, 1091; sec. 5, Pub. L. 117-223, 136 Stat 2280, 2285-88 (47 U.S.C. 345 note).

Subpart FF—Inmate Calling Services

2. Amend § 64.6060 by revising paragraphs (a)(5) through (7) to read as follows:

§ 64.6060 Annual reporting and certification requirement.

(a) * * *

(5) The number of TTY-based Inmate Calling Services calls provided per facility during the reporting period;

(6) The number of dropped calls the reporting Provider experienced with TTY-based calls; and

(7) The number of complaints that the reporting Provider received related to e.g., dropped calls, poor call quality and the number of incidences of each by TTY and TRS users.

* * * * *

3. Delayed indefinitely, further amend § 64.6060 by revising paragraphs (a)(5) through (7) to read as follows:

§ 64.6060 Annual reporting and certification requirement.

(a) * * *

(5) For each facility served, the kinds of TRS that may be accessed from the facility;

(6) For each facility served, the number of calls completed during the reporting period in each of the following categories:

(i) TTY-to-TTY calls;

(ii) Point-to-point video calls placed or received by ASL users as those terms are defined in § 64.601(a); and

(iii) TRS calls, broken down by each form of TRS that can be accessed from the facility; and

(7) For each facility served, the number of complaints that the reporting Provider received in each of the categories set forth in paragraph (a)(6) of this section.

* * * * *

[FR Doc. 2024-02384 Filed 2-7-24; 8:45 am]

BILLING CODE 6712-01-P